ENVIRONMENTAL PROTECTION AGENCY

[ER-FRL-6609-2]

Environmental Impact Statements and Regulations; Availability of EPA Comments

Availability of EPA comments prepared pursuant to the Environmental Review Process (ERP), under section 309 of the Clean Air Act and section 102(2)(c) of the National Environmental Policy Act as amended. Requests for copies of EPA comments can be directed to the Office of Federal Activities at (202) 260-5076. An explanation of the ratings assigned to draft environmental impact statements (EISs) was published in Federal Register dated April 14, 2000 (65 FR 20157).

Draft EISs

ERP No. D-FAA-E51047-NC Rating EO2, Piedmont Triad International Airport, Construction and Operation, Runway 5L/23R and New Overnight Express Air Cargo Sorting and Distribution Facility, and Associated Developments, Funding, NPDES and COE Section 404 Permit, City of Greensboro, Guilford County, NC.

Summary: EPA expressed environmental objections since the EIS did not fully describe the proposed air cargo operations and the associated potential noise impacts. EPA requested that there be specific commitments to both avoid or reduce air cargo operational noise.

ERP No. D-GSA-B80007-MA Rating LO, U.S. Courthouse Springfield, Construction, Hampden County, MA.

Summary: EPA had no objections to the project.

ERP No. D-IBW-G29002-00 Rating EC2, El Paso—Las Cruces Regional Sustainable Water Project, To Secure Future Drinking Water Supplies, United States and New Mexico.

Summary: EPA expressed concern regarding potential impacts to water/terrestrial resources, habitats, air quality, cultural resources and socioeconomics. EPA requested the final document include additional information and mitigation measures on these issues.

Final EISs

ERP No. F-AFS-J65288-CO Uncompahgre National Forest Travel Plans Revision, Implementation, Grand Mesa, Uncompahgre and Gunnison National Forests, Garrison, Hinsdale Mesa, Montrose, Ouray and San Juan Counties, CO.

Summary: No formal comment letter was sent to the preparing agency.

ERP No. F-FAA-B51018-CT Tweed-New Haven Airport Runway Safety Area and Taxiway Improvements, Safety Improvements to Runway 2/20 and Taxiways ‘B' and ‘E', Funding, COE Section 10 and 404 Permits, New Haven County, CT.

Summary: EPA has no objections to the project.

ERP No. F-HUD-K80040-CA City of Monterey Park Project, Construction and Operation of the Monterey Park Towne Plaza, North of the Pomona Freeway and west of Paramount Boulevard, Los Angeles County, CA.

Summary: No formal comment letter was sent to the preparing agency.

ERP No. F-USA-K26001-HI Schofield Barracks Wastewater Treatment Plant (WWTP), Effluent Treatment and Disposal, NPDES Permit and COE Section 404 Permit, City of County of Honolulu, Oahu, HI.

Summary: No formal comment letter was sent to the preparing agency.

Dated: July 11, 2000.
Joseph C. Montgomery,
Director, NEPA Compliance Division, Office of Federal Activities.

[FR Doc. 00-17924 Filed 7-13-00; 8:45 am]

BILLING CODE 6560-50-U